COMMISSION ON CIVIL RIGHTS

Agenda and Notice of Public Meeting of the District of Columbia Advisory Committee

Notice is hereby given, pursuant to the provisions of the rules and regulations of the U.S. Commission on Civil Rights, that a meeting of the District of Columbia Advisory Committee to the Commission will convene at 9:30 a.m. to 12:30 p.m. on Tuesday, March 18, 2002, at the John A. Wilson Building, Room 201, 1350 Pennsylvania Avenue, NW., Washington, DC 20004. The Advisory Committee will hold a meeting to (1) receive an update on the InterSAC report, Civil Rights Concerns in the Metropolitan Washington, DC Area in the Aftermath of the September 11, 2001, Tragedies, and (2) resume planning for its next forums on police-community relations and the impact of relocation of federal agencies outside of the District of Columbia.

Persons desiring additional information, or planning a presentation to the Committee, should contact Marc Pentino of the Eastern Regional Office, 202-376-7533 (TDD 202-376-8116). Hearing-impaired persons who will attend the meeting and require the services of a sign language interpreter should contact the Regional Office at least 10 working days before the scheduled date of the meeting.

The meeting will be conducted pursuant to the provisions of the rules and regulations of the Commission.

Dated in Washington, DC, March 4, 2003.
Ivy L. Davis,
Chief, Regional Programs Coordination Unit.

[FR Doc. 03-5591 Filed 3-7-03; 8:45 am]

BILLING CODE 6335-01-P